DEPARTMENT OF THE INTERIOR

National Park Service

[NPS-WASO-NRNHL-DTS#-39921; PPWOCRADI0, PCU00RP14.R50000]

National Register of Historic Places; Notification of Pending Nominations and Related Actions

AGENCY: National Park Service, Interior.

ACTION: Notice.

SUMMARY: The National Park Service is soliciting electronic comments on the significance of properties nominated before March 29, 2025, for listing or related actions in the National Register of Historic Places.

DATES: Comments should be submitted electronically by April 28, 2025.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 2013, Washington, DC 20240.

FOR FURTHER INFORMATION CONTACT: Sherry A. Frear, Chief, National Register of Historic Places/National Historic Landmarks Program, 1849 C Street NW, MS 2013, Washington, DC 20240, sherry_frear@nps.gov, 202-913-3763.

SUPPLEMENTARY INFORMATION: The properties listed in this notice are being considered for listing or related actions in the National Register of Historic Places. Nominations for their consideration were received by the National Park Service before March 29, 2025. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name (if applicable), Address/Boundary, City, Vicinity, Reference Number.

DISTRICT OF COLUMBIA

District of Columbia

Earley, John Joseph House, 1710 Lamont Street NW, Washington, SG100011776

NEW YORK

Cattaraugus County

Cattaraugus County Memorial and Historical Building, 302 Court Street, Little Valley, SG100011780

Delaware County

Walter Coulter Homestead Farm, 615 Seedorf Road, Bovina, SG100011781

Monroe County

Colgate-Rochester (Crozer) Divinity School, 1100-1122 South Goodman Street and 117-125 Highland Parkway, Rochester, SG100011782

Schoharie County

Jefferson Historic District, Creamery Street, Main Street, Peck Street and Summit Street, Jefferson, SG100011783

Ulster County

The Home for the Aged in Ulster County, 80 Washington Avenue, Kingston, SG100011784

PENNSYLVANIA

Allegheny County

St. Colman School, 547 Hunter Street, Turtle Creek, SG100011773

SOUTH CAROLINA

Charleston County

Hebron Presbyterian Church, 4058 Betsy Kerrison Parkway, Johns Island, SG100011785

Marlboro County

Marlboro County Training School, 612 King Street, Bennettsville, SG100011778

TEXAS

Matagorda County

Palacios Colored School, 907 8th Street, Palacios, SG100011777

Additional documentation has been received for the following resource(s):

KANSAS

Clay County

Clay Center Downtown Historic District (Additional Documentation), 4th to 6th Sts., Court to Lincoln Aves., Clay Center, AD100005716

NEVADA

Clark County

Vegas Grammar School Branch No. 1 (Additional Documentation), 330 West Washington Avenue, Las Vegas, AD79001460

OREGON

Multnomah County

Marshall, Dr. John D., Building (Additional Documentation), (African American Resources in Portland, Oregon, from 1851 to 1973 MPS), 2337 North Williams Ave., Portland, AD100009052

Nomination(s) submitted by Federal Preservation Officers:

The State Historic Preservation Officer reviewed the following nomination(s) and responded to the Federal Preservation Officer within 45 days of receipt of the nomination(s) and supports listing the properties in the National Register of Historic Places.

INDIANA

Porter County

Cowles Bog, 1100 N Mineral Springs Road, Chesterton vicinity, SG100011750

Authority: 36 CFR 60.13.

Sherry A. Frear
Chief, National Register of Historic Places/National Historic Landmarks Program.

[FR Doc. 2025-06170 Filed 4-10-25; 8:45 am]

BILLING CODE 4312-52-P